DEPARTMENT OF TRANSPORTATION

National Highway Traffic Safety Administration

[U.S. DOT Docket Number NHTSA-2016-0007]

Reports, Forms, and Recordkeeping Requirements

AGENCY: National Highway Traffic Safety Administration (NHTSA), Department of Transportation.

ACTION: Request for public comment on extension of a currently approved collection of information.

SUMMARY: The Department of Transportation (DOT) invites public comments about our intention to request the Office of Management and Budget (OMB) renewed approval for an existing collection of information for brake fluid labeling in 49 CFR 571.116, “Motor Vehicle Brake Fluids.” Under procedures established by the Paperwork Reduction Act of 1995, before seeking OMB approval, Federal agencies must solicit public comment on proposed collections of information, including extensions and reinstatement of previously approved collections. This existing collection involves labeling requirements for manufacturers and packagers of brake fluids, as well as packagers of hydraulic system mineral oils. The information to be collected will be used to and/or is necessary to insure the following: The contents of the container are clearly stated; these fluids are used for their intended purpose only; and, the containers are properly disposed of when empty.

DATES: Comments must be received on or before May 2, 2016.

ADDRESSES: Comments must refer to the docket number cited at the beginning of this notice, and may be submitted by any of the following methods:

• Federal eRulemaking Portal: Go to http://www.regulations.gov. Follow the online instructions for submitting comments.

• Mail: Docket Management Facility, M-30, U.S. Department of Transportation, West Building, Ground Floor, Room W12-140, 1200 New Jersey Avenue SE., Washington, DC 20590.

• Hand Delivery or Courier: West Building, Ground Floor, Room W12-140, 1200 New Jersey Avenue SE., between 9 a.m. and 5 p.m. Eastern Time, Monday through Friday, except Federal Holidays. Telephone: 1-800-647-2251.

Instructions: All submissions must include the docket number for this document. Please identify the collection of information for which a comment is provided by referencing the OMB Control Number, 2127-0521. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketsInfo.dot.gov.

FOR FURTHER INFORMATION CONTACT: Mr. Patrick Hallan, (202) 366-9146, NHTSA, U.S. Department of Transportation, 1200 New Jersey Avenue SE., Washington, DC 20590.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(1) Whether the proposed collection of information is necessary for the proper performance of the functions of the agency, including whether the information will have practical utility;

(2) The accuracy of the agency's estimate of the burden of the proposed collection of information, including the validity of the methodology and assumptions used;

(3) How to enhance the quality, utility, and clarity of the information to be collected;

(4) How to minimize the burden of the collection of information on those who are to respond, including the use of appropriate automated, electronic, mechanical, or other technological collection techniques or other forms of information technology, e.g. permitting electronic submission of responses.

In compliance with these requirements, NHTSA asks for public comments on the following collection of information:

Title: Labeling of Motor Vehicle Brake Fluid Containers in 49 CFR 571.116

OMB Control Number: 2127-0521

Form Numbers: This collection of information uses no standard form.

Type of Request: Extension of a currently approved collection of information.

Summary of the Collection of Information: In 49 CFR 571.116 (Federal Motor Vehicle Safety Standard No. 116, “Motor Vehicle Brake Fluid”), there are performance and design requirements for motor vehicle brake fluids and hydraulic system mineral oils. In Section 5.2.2 of the standard, there are also labeling requirements for manufacturers and packagers of brake fluids, as well as packagers of hydraulic system mineral oils.

Description of the Need for the Information and the Use of the Information: Properties of these fluids and their use necessitate the package labeling information specified in this standard. The information on the label of a container of motor vehicle brake fluid or hydraulic system mineral oil is necessary to ensure: The contents of the container are clearly stated; these fluids are used for their intended purpose only; and the containers are properly disposed of when empty. Without this labeling requirement, there could be improper use or storage of these brake fluids, which would have dire safety consequences for the operators of vehicles or the equipment in which they are used.

Description of the Likely Respondents (Including Estimated Number and Proposed Frequency of Response to the Collection of Information): We estimate that the collection of information affects 200 respondents annually, which are manufacturers and packagers of brake fluids and hydraulic mineral oils.

Estimate of the Total Annual Reporting and Recordkeeping Burden Resulting from the Collection of Information: The estimated annual burden is as follows:

Estimated Number of Respondents: 200.

Estimated Number of Responses (labels): 70,000,000.

Estimated Total Annual Burden: 7000 hours.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.95.

Raymond R. Posten,
Associate Administrator for Rulemaking, National Highway Traffic Safety Administration.

[FR Doc. 2016-04567 Filed 3-1-16; 8:45 am]

BILLING CODE 4910-59-P